DEPARTMENT OF ENERGY

Federal Energy Regulatory Commission

[Project No. 6951-018]

Tallassee Shoals, LLC; Notice of Waiver Period for Water Quality Certification Application

On August 22, 2022, Tallassee Shoals, LLC. submitted to the Federal Energy Regulatory Commission (Commission) a copy of its application for a Clean Water Act section 401(a)(1) water quality certification filed with Georgia Environmental Protection Division, in conjunction with the above captioned project. Pursuant to 40 CFR 121.6 and section [4.34(b)(5), 5.23(b), 153.4, or 157.22] of the Commission's regulations,¹ we hereby notify the Georgia Environmental Protection Division of the following:

¹ 18 CFR [4.34(b)(5)/5.23(b)/153.4/157.22].

Date of Receipt of the Certification Request: August 12, 2022.

Reasonable Period of Time to Act on the Certification Request: One year August 12, 2023.

If Georgia Environmental Protection Division fails or refuses to act on the water quality certification request on or before the above date, then the agency certifying authority is deemed waived pursuant to section 401(a)(1) of the Clean Water Act, 33 U.S.C. 1341(a)(1).

Dated: September 2, 2022.
Kimberly D. Bose,
Secretary.

[FR Doc. 2022-19476 Filed 9-8-22; 8:45 am]

BILLING CODE 6717-01-P